FEDERAL COMMUNICATIONS COMMISSION

[FR ID: 133165]

Privacy Act of 1974; System of Records

AGENCY: Federal Communications Commission.

ACTION: Notice of a new system of records.

SUMMARY: The Federal Communications Commission (FCC or Commission or Agency) proposes to add a new system of records, FCC/WCB-5, USAC Customer Relationship Management (CRM), subject to the Privacy Act of 1974, as amended. This action is necessary to meet the requirements of the Privacy Act to publish in the Federal Register notice of the existence and character of records maintained by the Agency. The Universal Service Administrative Company (USAC), under the direction of the Commission and, by delegation, of the Commission's Wireline Competition Bureau (WCB), administers the Universal Service Fund (USF) programs and certain programs funded by Congressional appropriations (“appropriated programs”). This system of records contains information about individuals who are customers, participants, and stakeholders of the programs who submit complaints and requests for assistance to USAC to address issues with their program participation.

DATES: Written comments are due on or before May 1, 2023. This action will become effective on March 30, 2023, except for any new or significantly modified routine uses, which will become effective May 1, 2023.

ADDRESSES: Universal Service Administrative Company (USAC), 700 12th Street NW, Suite 900, Washington, DC 20005. Send comments to Brendan McTaggart, Federal Communications Commission (FCC), 45 L Street NE, Washington, DC 20554, or to privacy@fcc.gov.

FOR FURTHER INFORMATION CONTACT: Brendan McTaggart, (202) 418-1738, or privacy@fcc.gov.

SUPPLEMENTARY INFORMATION: USAC administers the programs of the USF (including the Lifeline, High Cost, Rural Health Care, and E-Rate programs) and certain appropriated programs including the Affordable Connectivity Program (ACP), Emergency Connectivity Fund Program (ECF), and the COVID-19 Telehealth Program on behalf of the FCC, as set forth in 47 CFR part 54, under the direction of the Commission and, by delegation, of WCB. Under the Memorandum of Understanding Between the FCC and USAC (Dec. 19, 2018), as amended (Nov. 22, 2021) (FCC/USAC MOU) ¹ USAC is responsible for the effective administration of the programs, including responding to inquiries from program participants and providing timely and relevant data and analysis to inform the Commission in its policy making and oversight of the USF and appropriated programs. USAC has not previously had a unified Customer Relationship Management (CRM) system serving as central ticketing system for service inquiries for all of the programs it administers. The Lifeline customer service center is part of an existing Privacy Act System of Records: FCC/WCB-1, Lifeline Program, 86 FR 11526 (2021). The USAC CRM will handle and process inquiries from individuals, groups, and other entities, for all of the programs administered by USAC. The system allows USAC customer service representatives to access prior related inquiries in order to provide excellent customer service. It includes a portal to allow customers to easily interact with USAC through one channel of communication, maintaining the ability to view case status, create new cases, and review closed cases within the same interface. This system of records includes existing data from the established USF and appropriated programs administered by USAC. The system can also accommodate data from any future programs assigned by the FCC to be administered by USAC. The system allows USAC to retrieve records based on an individual's information within the system. The CRM system will be launched in phases on a program by program basis. Phase I currently includes High Cost, Rural Health Care, and Finance (Contributions) customer support. Phase II is anticipated to incorporate Lifeline and the Affordable Connectivity Program for customer support. Phase III will commence the consumer portal.

¹ The FCC and USAC have additional MOUs for the appropriated programs. The COVID-19 Telehealth Program was signed on February 4, 2021, the ECF MOU was signed on March 18, 2021, and the ACP MOU was signed November 16, 2021 and revised March 2, 2022.

SYSTEM NAME AND NUMBER:

FCC/WCB-5, USAC Customer Relationship Management.

SECURITY CLASSIFICATION:

No information in the system is classified.

SYSTEM LOCATIONS:

Universal Service Administrative Company (USAC), 700 12th Street NW, Suite 900, Washington, DC 20005; and Wireline Competition Bureau (WCB), Federal Communications Commission (FCC), 45 L Street NE, Washington, DC 20554.

SYSTEM MANAGERS:

Address inquiries to the Universal Service Administrative Company (USAC), 700 12th Street NW, Suite 900, Washington, DC 20005; or Wireline Competition Bureau (WCB), 45 L Street NE, Washington, DC 20554.

AUTHORITY FOR MAINTENANCE OF THE SYSTEM:

47 U.S.C. 151-154, 201-205, 214, 403; 47 CFR part 54, subpart H.

PURPOSE OF THE SYSTEM:

This system of records is maintained to provide a unified tool to enable USAC, on behalf of the FCC, to respond to inquiries from consumers, participants, and stakeholders in the USF and appropriated programs; to inform the FCC of concerns regarding the USF and appropriated programs in support of the agency's policymaking and enforcement endeavors or otherwise to evaluate the efficiency and administration of FCC programs and to inform future FCC rulemaking activity; to provide consumers with access to a unified portal to view case status, create new cases, and review closed cases; and to provide USAC staff with access to documents and otherwise improve staff efficiency.

CATEGORIES OF INDIVIDUALS COVERED BY THE SYSTEM:

The categories of individuals in this system include, but are not limited to, individuals who contact USAC with inquiries concerning USF and appropriated programs administered by USAC on behalf of the FCC. These individuals include, but are not limited to, individuals and representatives of individuals who participate in these programs; individuals making inquiries on behalf of program participants and stakeholders; and employees of USAC, USAC's vendors, and the FCC.

CATEGORIES OF RECORDS IN THE SYSTEM:

The categories of records in the system collected by design include first and last name, telephone number, email address, user ID numbers, and service representative names, ID numbers, and the name of the organization associated with the individual. Examples for organization names include but are not limited to carrier and school names. Customers or customer representatives may provide data elements that have not been specifically requested, including date of birth, home address, place of birth, gender, work address, taxpayer ID numbers, facsimile numbers, Social Security numbers (SSNs), mother's maiden name, information contained in birth, death, or marriage certificates, financial account numbers, employment status, employer identification numbers (EINs), and a driver's licenses or State ID (or foreign country equivalent).

RECORD SOURCE CATEGORIES:

Participants in USF and appropriated programs, participating providers and their registered enrollment representatives, and USAC employees or contractors.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC, as a routine use pursuant to 5 U.S.C. 552a(b)(3) as follows:

1. Program Management—To USAC employees to conduct official duties associated with the administration of FCC programs or the management, operation, and oversight of the CRM, as directed by the Commission.

2. Third Party Contractors—To an employee of a third-party contractor engaged by USAC or a participating provider, or to a subcontractor engaged by a third-party contractor, engaged by USAC, to, among other things, develop the CRM, respond to inquiries concerning USF and appropriated programs, run call center and email support operations, assist in dispute resolution, and develop, test, and operate the database system and network.

3. Service Providers—To service providers, and their registered representatives, only such information that may be required to help resolve a consumer complaint or dispute.

4. State, Tribal, or Local Governmental Agencies and Other Authorized Governmental Entities—To State, Tribal, or local government agencies and other authorized governmental entities, including public utility commissions, only such information that may be required to help resolve a consumer complaint or dispute.

5. FCC Enforcement Actions—When a record in this system involves an informal complaint filed alleging a violation of FCC rules and regulations by an applicant, licensee, certified or regulated entity, or an unlicensed person or entity, the complaint may be provided to the alleged violator for a response. Where a complainant, in filing his or her complaint, explicitly requests confidentiality of his or her name from public disclosure, the Commission will endeavor to protect such information from public disclosure. Complaints that contain requests for confidentiality may be dismissed if the Commission determines that the request impedes the Commission's ability to investigate and/or resolve the complaint.

6. Congressional Inquiries—To provide information to a Congressional office from the record of an individual in response to an inquiry from that Congressional office made at the request of that individual.

7. Government-Wide Program Management and Oversight—To the Department of Justice (DOJ) to obtain that department's advice regarding disclosure obligations under the Freedom of Information Act (FOIA); or the Office of Management and Budget (OMB) to obtain that office's advice regarding obligations under the Privacy Act.

8. Law Enforcement and Investigation—To disclose pertinent information to appropriate Federal, State, Tribal, or local agencies, authorities, and officials responsible for investigating, prosecuting, enforcing, or implementing a statute, rule, regulation, or order, where the FCC or USAC becomes aware of an indication of a violation or potential violation of a civil or criminal statute, law, regulation, or order, including but not limited to notifying the Internal Revenue Service (IRS) to investigate income eligibility verification.

9. Litigation—To disclose the records to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the Department of Justice is for a purpose that is compatible with the purpose for which the FCC collected the records.

10. Adjudication—To disclose the records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

11. Breach Notification—To appropriate agencies, entities (including USAC), and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

12. Assistance to Federal Agencies and Entities—To another Federal agency or entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

13. Prevention of Fraud, Waste, and Abuse Disclosure—To Federal agencies, or to an instrumentality of any governmental jurisdiction within or under the control of the United States (including any State, Tribal, or local governmental agency), and their employees and agents (including contractors, their agents or employees; employees or contractors of the agents or designated agents); or contractors, their employees or agents with whom the FCC or USAC has a contract, service agreement, cooperative agreement, or computer matching agreement for the purpose of: (1) detection, prevention, and recovery of improper payments; (2) detection and prevention of fraud, waste, and abuse in Federal programs administered by a Federal agency or non-Federal entity; (3) detection of fraud, waste, and abuse by individuals in their operations and programs, but only to the extent that the information shared is necessary and relevant to verify pre-award and prepayment requirements prior to the release of Federal funds, prevent and recover improper payments for services rendered under programs of the FCC or of those Federal agencies and non-Federal entities to which the FCC or USAC provides information under this routine use.

14. Contract Services, Grants, or Cooperative Agreements—To disclose information to the FCC or USAC contractors, grantees, or volunteers who have been engaged to assist the FCC or USAC in the performance of a contract service, grant, cooperative agreement, or other activity related to this system of records and who need to have access to the records in order to perform their activity.

POLICIES AND PRACTICES FOR STORAGE OF RECORDS:

The information pertaining to the CRM includes electronic records, files, data, records, and may include audio recordings of calls. Records are maintained in secure, limited access areas. Physical entry by unauthorized persons is restricted through use of locks, passwords, and other security measures. Both USAC and its contractors will jointly manage the electronic data housed at USAC and contractors will have access to the data at their locations.

POLICIES AND PRACTICES FOR RETRIEVAL OF RECORDS:

Information in the CRM system of records may be retrieved by various identifiers, including, but not limited to the individual's name, or identification number. USAC employees and contractors information can also be retrieved through identifiers including first or last name, title, email address, and username.

POLICIES AND PRACTICES FOR RETENTION AND DISPOSAL OF RECORDS:

Data from USF programs contained in the CRM system are retained in accordance with the National Archives and Records Administration (NARA) General Records Schedule DAA-0173-2017-0001, and will be destroyed 10 years after the year it was created or when no longer needed for business or audit purposes. NARA has not adopted a schedule for appropriated programs records, and will be retained indefinitely until a NARA schedule is adopted for those programs' records. USAC adheres to National Institute of Standards and Technology (NIST) guidelines for the destruction of records.

ADMINISTRATIVE, TECHNICAL, AND PHYSICAL SAFEGUARDS:

The electronic records, data, and files are maintained in the FCC and the USAC computer network databases, which are protected by the FCC's and USAC's privacy safeguards, a comprehensive and dynamic set of IT safety and security protocols and features that are designed to meet all Federal IT privacy standards, including those required by the National Institute of Standard and Technology (NIST) and the Federal Information Security Management System (FISMA). In addition, access to the electronic files is restricted to authorized USAC and contractors' supervisors and staff, to the FCC's supervisors and staff in WCB, and to the IT contractors who maintain these computer databases. Other FCC employees and contractors may be granted access only on a “need-to-know” basis. In addition, data in USAC's network servers which are accessible by USAC's contractors will be routinely backed-up. The servers will be stored in secured environments to protect the data.

The paper documents and files are maintained in file cabinets in USAC and the contractors' office suites. The file cabinets are locked when not in use and at the end of the business day. Access to these files is restricted to authorized USAC and its contractors' staffs.

RECORD ACCESS PROCEDURES:

Individuals wishing to request access to and/or amendment of records about themselves should follow the Notification Procedure below.

CONTESTING RECORD PROCEDURES:

Individuals wishing to request an amendment of records about themselves should follow the Notification Procedure below.

NOTIFICATION PROCEDURES:

Individuals wishing to determine whether this system of records contains information about themselves may do so by writing Federal Communications Commission (FCC), 45 L Street NE, Washington, DC 20554, or to privacy@fcc.gov. Individuals requesting access must also comply with the FCC's Privacy Act regulations regarding verification of identity to gain access to the records (47 CFR Part 0, Subpart E).

EXEMPTIONS PROMULGATED FOR THE SYSTEM:

None.

HISTORY:

None.

Federal Communications Commission.
Marlene Dortch,
Secretary.

[FR Doc. 2023-06507 Filed 3-29-23; 8:45 am]

BILLING CODE 6712-01-P